DEPARTMENT OF THE INTERIOR

Bureau of Land Management

[BLM_CA_FRN_MO4500173171]

Notice of Availability of the Draft Resource Management Plan and Environmental Impact Statement for the Redding and Arcata Field Offices and an Associated Environmental Impact Statement, California

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Northwest California Integrated Draft Resource Management Plan and Draft Environmental Impact Statement (Draft RMP/EIS) for the Redding Field Office and Arcata Field Office. By this notice, the BLM is providing information announcing the opening of the comment period on the Draft RMP/EIS and is announcing the comment period on the BLM's proposed areas of critical environmental concern (ACECs).

DATES: This notice announces the opening of a 90-day comment period for the Draft RMP/EIS beginning with the date following the Environmental Protection Agency's (EPA) publication of its Notice of Availability (NOA) in the Federal Register. The EPA usually publishes its NOAs on Fridays.

To afford the BLM the opportunity to consider comments in the Proposed RMP/Final EIS, please ensure that the BLM receives your comments prior to the close of the 90-day public comment period or 15 days after the last public meeting, whichever is later.

In addition, this notice also announces the opening of a concurrent 60-day comment period for ACECs. The BLM must receive your ACEC-related comments by November 28, 2023.

The BLM plans to hold at least one virtual and at least two in-person public meetings, in Redding and Arcata, California during the 90-day public comment period. The dates and locations of the meetings will be announced at least 15 days in advance through local media, social media, newspaper, and the ePlanning website (see ADDRESSES section).

ADDRESSES: The Draft RMP/EIS is available for review on the BLM National NEPA Register project website at https://eplanning.blm.gov/eplanning-ui/project/2012803/510.

Written comments related to the Northwest California Integrated Resource Management Plan (NCIP) may be submitted by any of the following methods:

• Website: https://eplanning.blm.gov/eplanning-ui/project/2012803/510

• Email: BLM_CA_Redding_Arcata_NCIP@blm.gov

• Mail: NCIP Comments, Bureau of Land Management, 1695 Heindon Road, Arcata, California 95521-4573

Documents pertinent to this proposal may be examined online at https://eplanning.blm.gov/eplanning-ui/project/2012803/510 or the Redding or Arcata field offices.

FOR FURTHER INFORMATION CONTACT: Victoria Callahan, Planning and Environmental Specialist, telephone: (707) 825-2315; address: Bureau of Land Management, Arcata Field Office, 1695 Heindon Road, Arcata, California 95521-4573; email: vslaughter@blm.gov or Chad Endicott, Planning and Environmental Specialist, telephone: (530) 224-2140; address: Bureau of Land Management, Redding Field Office, 6640 Lockheed Drive, Redding, CA 96002-9003; email: cendicott@blm.gov.

Individuals in the United States who are deaf, deafblind, hard of hearing, or have a speech disability may dial 711 (TTY, TDD, or TeleBraille) to access telecommunications relay services for contacting Ms. Callahan or Mr. Endicott. Individuals outside the United States should use the relay services offered within their country to make international calls to the point of contact in the United States.

SUPPLEMENTARY INFORMATION: This document provides notice that the BLM California State Director has prepared a Draft RMP/EIS, provides information announcing the opening of the comment period on the Draft RMP/EIS, and announces the comment period on the BLM's proposed ACECs. The planning area is in Mendocino, Humboldt, Del Norte, Siskiyou, Trinity, Shasta, Tehama, and Butte counties, California, and encompasses approximately 382,200 acres of public land and approximately 295,100 subsurface acres of Federal mineral estate.

Current Arcata Field Office and Redding Field Office management is identified in their respective 1992 and 1993 RMPs. All existing management as described in the Arcata Field Office and Redding Field Office approved RMPs remains in effect until and unless replaced or modified by the Northwest California Integrated Resource Management Plan Approved RMP and Record of Decision. Separate management plans guide BLM management for National Conservation Land units within the planning area.

Other non-BLM-administered lands within the planning area include the Six Rivers, Shasta-Trinity, Klamath, Lassen, Plumas, and Mendocino National Forests; Lassen Volcanic and Redwoods National Parks; the Whiskeytown and Smith River National Recreation Areas; the Sacramento Castle Rock and Humboldt Bay National Wildlife Refuges; and Black Butte Lake (managed by the US Army Corps of Engineers). In addition, Tribal lands and reservations for 31 federally recognized Native American Tribes fall within the planning area, and the BLM-administered lands include sacred sites, gathering areas, and other places important to Tribes. The Bureau of Reclamation manages numerous land holdings and facilities within the planning area, including six hydroelectric dams and lands that are comanaged with the BLM under a memorandum of agreement with the Redding Field Office near the Shasta Dam and Keswick Reservoir. In addition to federally managed lands, there are an extensive number of State of California-managed beaches, parks, wildlife areas, and recreation areas in the planning area. The Arcata Field Office and Redding Field Office have taken these non-BLM-administered lands into account in this planning effort.

Public comments received during the public scoping period held between April 29, 2022, and June 28, 2022, were reviewed and taken into consideration in the development of the Draft RMP/EIS. Additionally, comments submitted by other government agencies, public organizations, State, and Tribal entities, and interested individuals were given careful consideration. Public scoping efforts enabled the BLM to identify and shape significant issues pertaining to recreational opportunities, special designations, land tenure, cultural resources, and other program areas. Cooperating agencies were provided the opportunity to review and comment on the proposed range of alternatives during the alternative's development process. A summary of the public involvement process and comments received can be viewed on the BLM National NEPA Register (see ADDRESSES).

Purpose and Need for the Planning Effort

The purpose of and need for the plan identified in the sections below describes why the BLM is revising the existing RMPs and what outcomes the BLM intends the new RMP to achieve. The purpose and need incorporates information identified in past planning efforts and supporting analyses, including the 1992 Arcata RMP, 1993 Redding RMP, 2002 Redding RMP plan evaluation, 2009 Arcata RMP plan evaluation, 2016 initial RMP effort (including envisioning and scoping public meetings), pre-scoping public meetings held in early 2021, and public scoping held in 2022. The purpose and need helps to define the range of alternatives that are analyzed in the planning process because alternatives are only considered reasonable if they respond to the purpose of and need for action.

Need for the Action: The Federal Land Policy and Management Act of 1976, as amended, establishes the BLM's multiple-use and sustained-yield mandate to serve present and future generations. To meet this overarching mandate, FLPMA requires the BLM to “develop, maintain, and, when appropriate, revise land use plans” (43 U.S.C. 1712 (a)). Consistent with the BLM's planning regulations, RMPs “shall be revised as necessary based on monitoring and evaluation findings, new data, new or revised policy and changes in circumstances affecting the entire plan or major portions of the plan” (43 CFR 1610.5-6).

Many factors affecting daily management decisions faced by the Field Offices (FOs) have changed since the development of the existing Arcata and Redding RMPs. These factors include updated special status species lists, changes to endangered species recovery plans, population growth, changes in land tenure, shifting focus away from annual quotas for forestry and wildfire and fuels management programs, larger and higher-intensity wildland fires, increasing demand for fuels reduction projects, and increases in recreational use. Additionally, the accelerated pace of climate change and related climate impacts (including changes in temperature, precipitation, and water resources), and higher intensity wildland fires within the planning area are environmental drivers that have also caused management decisions to shift since the existing RMPs were finalized. Additional resource information, changing social perspectives, new technologies, and federal mandates have also generated important justifications for revising these preliminary RMPs.

Arcata and Redding FO RMP Plan Evaluations: In 2009, the Redding FO and Arcata FO conducted RMP evaluations that, with the addition of new resource information, changing social perspectives, new technologies, and federal mandates, highlighted the need for revising the RMPs. The NCIP would enable the BLM to guide management actions based on up-to-date information reflecting current public input, changes in policy, resource conditions, and development trends. The planning issues and resources identified in the 2009 evaluations to be addressed in the NCIP include responding to changes in land tenure, changes in wilderness designations, new species listings, new forest pathogens, climate change, sea-level rise, fuels management, wildland fire suppression and management, human population growth, Tribal empowerment, and the need to reassess determinations regarding ACECs and Special Recreation Management Areas (SRMAs).

Additional Considerations: The need for the RMP revisions has remained crucial given the recent cumulative changes to resource conditions, primarily due to catastrophic wildland fire within the planning area. Incorporating over three decades of scientific studies and new management approaches into a revised RMP would greatly benefit future decision-making and bring the FOs' planning guidance into compliance with legislative mandates, executive orders, current DOI policies, and current land management standards. The NCIP would also facilitate coordination of the Arcata and Redding FOs' land management with that of adjacent public lands managed by the US Department of Agriculture Forest Service, US Bureau of Reclamation, US Fish and Wildlife Service, other federal and state agencies, and Tribes.

Purpose of the Action: The purpose of the NCIP is to make land use decisions to guide the management of BLM-managed lands within the planning area. Planning decisions would integrate current law and policies as well as current information to resolve primary issues identified in the planning area, specifically related to increasing human population and changing use patterns, wilderness management, climate change, special status species, and land tenure.

Climate Change, Sea-Level Rise, and Ecosystem Resiliency: Climate change and sea-level rise will continue to affect the planning area. Impacts from rising sea levels will affect the management of coastal lands within the planning area. Coastal dunes that provide a buffer against sea-level rise and storm surges will change, and coastal lowlands will experience novel saltwater intrusion and resulting changes in vegetation. High-elevation areas in the planning area may become increasingly important refuge areas for species displaced from lower habitats. While projected changes in temperature, precipitation, and sea-level rise differ based on modeling assumptions, the magnitude of these changes is expected to increase during implementation of the NCIP.

By accounting for anticipated climate change effects during the planning process, the BLM would make management decisions that reflect the anticipated impacts on vulnerable resources to assure that public lands and ecosystems are resilient to sea-level rise, increasing temperatures, and changing precipitation patterns. Management would maintain habitat connectivity and resiliency, promote carbon sequestration by providing for the long-term health and productivity of vegetation communities, and implement best management practices to reduce emissions of greenhouse gases for authorized activities in accordance with regional and state climate goals. Additionally, the NCIP would allow the BLM to coordinate forestry actions to develop treatments that achieve silvicultural objectives while considering impacts on carbon sequestration, acquire land to manage for coastal resiliency, reduce or eliminate uses that degrade natural systems that protect the human environment from climate change, and contribute to regional habitat and water quality monitoring efforts.

Wildland Fire and Fuels Management: Managing for diverse, ecologically resilient landscapes and healthy forests will be central to adapting to a changing climate. Due to drought and abnormally warm temperatures, wildfires in California have increased in frequency, size, and severity, with 8 of the 20 largest fires in California's history occurring since 2017 and the area burned annually by wildfire in California increasing since 1950. Fire management in the Arcata and Redding RMPs does not include current guidance or best management practices for wildland fire management. During public outreach efforts, commenters expressed concern related to wildland fire risk and requested that fire response be considered in the proposed NCIP management actions. Public commenters highlighted how prescribed fire could be used to manage or improve landscape conditions, reduce the risk and damage from catastrophic wildfires, and improve the overall soil and ecosystem health of a region.

The NCIP would emphasize forest and vegetation management strategies that account for the protection of adjacent human values, public use, and public safety, while enhancing or maintaining ecosystem function and productivity. Wildland fire management strategies that establish multiple resource-based objectives in addition to public, infrastructure, and first responder safety would improve wildfire outcomes as fire occurrence, size, and severity increase. Planned treatments, such as hazardous fuels reduction through mechanical, biological, chemical, or manual means, would be identified, especially in high-risk or fire-prone portions of the planning area. Prescribed burning within fire-dependent ecosystems would be established as a priority management strategy to maintain disturbance regimes. To guide management decisions, the BLM will use the most up-to-date fuels treatment, planning, and analysis tools, including interagency spatial fire planning platforms and decision support tools that drive wildfire and fuels management planning.

Promote Recovery of Special Status Species: BLM-administered lands within the planning area have served as important habitat for listed and special status plants, fish, and animals. As climate change impacts increase and development of private lands intensifies, the importance of BLM-administered lands for the recovery of these species has continually increased and will continue to do so during the NCIP's implementation.

The NCIP is intended to enhance, maintain, or protect habitat and migration corridors for a range of special status species, including species identified as threatened and endangered under the Endangered Species Act of 1973 (ESA) and the California Endangered Species Act. The NCIP would bring management guidance in line with certain recovery plan recommendations for threatened and endangered species. Further, the NCIP will promote the recovery of special status populations and diminish or remove invasive, nonnative species through the management and restoration of habitats to promote long-term recovery of special status species.

Wilderness Management: The NCIP decision area includes approximately 50,040 acres of designated wilderness (approximately 13 percent of the decision area), including the Elkhorn Ridge (11,120 acres), Yuki (17,150 acres), South Fork Eel River (13,020 acres), Yolla Bolly-Middle Eel (8,550 acres), and Ishi (200 acres) Wilderness Areas. Most wilderness areas are surrounded by private lands that are managed for a variety of uses, including industrial forestry, rural development, and cannabis production. Preserving wilderness character is a key component of wilderness management. Conducting wilderness character baseline assessments is essential to determine whether this goal is met.

The BLM will also manage wilderness study areas to preserve wilderness characteristics. The NCIP will provide the initial guidance for developing Wilderness Management Plans as funding becomes available.

Develop Land Tenure Patterns and Access Strategy: Through implementation of the existing RMPs over the past three decades, the BLM has made substantial changes in landownership through land tenure adjustments, including exchanges, acquisitions, and disposals. This change in landownership has been effective at consolidating BLM-administered lands and disposing of scattered parcels. Despite the success of these adjustments, many scattered parcels still exist in the planning area.

The NCIP will weigh the current land tenure adjustment strategies against other land tenure adjustment options and the needs of other resources, resource uses, and Tribal interests. This would ensure land tenure adjustment actions are in line with current management direction, policy, and law. The NCIP will identify criteria for consideration of lands for retention, disposal, and acquisition, and specify those parcels that meet the disposal criteria. Further, the NCIP will consider areas where consolidating BLM administration of lands would enhance public values, such as conservation of important resources, recreation and public access, and integration with the needs of local communities.

Provide for a Broad Array of Recreation Uses: Increasing human populations have also brought a large increase in recreation on BLM-administered lands, especially those lands near population centers, such as Redding, Chico, Eureka, and Arcata. The public currently engages in a wide array of recreation uses, such as hunting, fishing, boating, target shooting, bird-watching, biking, off-highway vehicle riding, and car touring. Previous public outreach efforts have identified a great deal of public interest in maintaining existing recreational opportunities and a desire for more opportunities (for example, hiking, biking, equestrian, and off-highway vehicle trails). The BLM has also experienced an increase in requests for organized events, such as races.

The BLM will manage recreation in the NCIP decision area by designating SRMAs and Extensive Recreation Management Areas (ERMAs). The NCIP will provide specific goals for recreation outcomes in each recreation management area (RMA). The NCIP will develop a range of recreation management area scenarios in relation to other land use allocations and management objectives among the alternatives, while providing public access, promoting public health and safety, and minimizing conflicting uses.

Respond to Increasing Population and Changing Use Patterns: Within the planning area, the human population has grown by 20 to 30 percent in some counties over the past three decades. With increasing population has come increased development near BLM-administered lands. Such development and attendant infrastructure have led to increased numbers of rights-of-way across BLM-administered lands.

The BLM must balance the increasing need for ROWs with protection of natural and cultural resources. The NCIP would continue to provide for the use of BLM-managed lands in accordance with applicable laws and regulations, manage the public lands in support of the goals and objectives of other resource programs, and support the use and development of adjacent private lands, through the issuance of ROWs, leases, and permits, where appropriate. Land use allocations would define resource uses and land designations to help resolve conflicts between infrastructure and resource protection.

Alternatives Including the Preferred Alternative

The BLM has analyzed four alternatives in detail, including the no action alternative. Three action alternatives (Alternatives B, C, and D) were identified based on perceived resource use and issues in the planning area. Alternative B emphasizes resource connectivity and resiliency and has been developed to manage for multiple use by maintaining corridors of relatively undeveloped area to provide for connectivity of wildlife and fisheries habitat and to serve as a resilient refuge from ongoing development and climate change. This, in turn, would provide a recreational and aesthetic resources for public enjoyment. Alternative C emphasizes community access and development. Alternative C also manages for multiple use and public enjoyment but emphasizes recreational opportunity and access, travel and utility opportunities, and social and economic benefits. Alternatives B and C would manage for multiple use and long-term sustainability and provide for public use and enjoyment of BLM-administered lands. Alternative D aims to create opportunities for resource uses, such as recreation, motorized and mechanized travel, and livestock grazing while maintaining ecological function and meeting land capability to protect habitat connectivity.

These alternatives are to be analyzed against the No Action Alternative (current management, Alternative A) and can be refined or combined to provide the best mix to meet the public's needs while complying with the BLM's management responsibilities and regulatory requirements. The BLM further considered one additional alternative but dismissed this alternative from detailed analysis as explained in the Draft RMP/EIS.

The State Director has identified Alternative D as the preferred alternative. Alternative D was found to best meet the State Director's planning guidance and, therefore, was selected as the preferred alternative because it attempts to strike a balance between the action alternatives to provide community access and development while ensuring connectivity and resilience by including components of all alternatives considered.

Areas of Critical Environmental Concern

Consistent with land use planning regulations, 43 CFR 1610.7-2(b), the BLM is announcing the opening of a 60-day comment period on the ACECs proposed for designation in the preferred alternative. Comments may be submitted using any of the methods listed in the ADDRESSES section earlier.

The proposed ACECs included in the preferred alternative are:

• Upper Burney Dry Lake and Baker Cypress, 210 acres, to protect the Rare Baker Cypress and mountain vernal pool habitat. Visual Resource Management (VRM) class III, right-of-way avoidance, off-highway vehicle limited (183 acres—Baker Cypress), off-highway vehicle closed (26 acres—Upper Burney Dry Lake), closed to mineral leasing, closed to mineral material development, not available for livestock grazing, and work cooperatively with surrounding landowners to prevent trespass, unauthorized grazing, and cross-county off-highway vehicle use.

• Butte Creek, 2,250 acres, to protect old-growth reserves and the Northern Spotted Owl. VRM class II, right-of-way avoidance, off-highway vehicle limited, not available for livestock grazing, closed to mineral leasing.

• Deer Creek, 570 acres, to protect the scenic qualities of the canyon, to ensure the long-term protection of the raptors in the area, conserve archaeological resources, and protect ecologically intact habitat for wildlife. VRM class II, right-of-way avoidance, off-highway vehicle limited, closed to mineral leasing.

• Forks of Butte Creek, 2,900 acres, to protect scenic values, cultural resources, and fisheries. VRM class II, right-of-way exclusion, off-highway vehicle limited, closed to mineral leasing, withdrawn from mineral entry under Public Land Order 5329 (270 acres), closed to mineral material development, open to casual use gold panning, not available for livestock grazing, except for Helltown parcels which would be available, motor vehicle access to the day use area would be seasonally closed.

• Gillham Butte, 9,330 acres, to protect old-growth reserves. VRM class III, rights of way avoidance, off-highway vehicle limited, except where closed by deed restriction on acquired lands, closed to discharge of firearms where prohibited by deed restriction on acquired lands, closed to mineral leasing, closed to mineral material development, recommend for withdrawal from locatable mineral entry, not available for livestock grazing.

• Hawes Corner, 40 acres, to protect communities of slender Orcutt grass (Orcuttia tenuis). VRM class III, off-highway vehicle closed, closed to mineral leasing, closed to mineral material development, not available for livestock grazing, work cooperatively with surrounding landowners to prevent trespass, unauthorized grazing, and cross-country off-highway vehicle use.

• Iaqua Butte, 1,100 acres, to protect old-growth reserves. VRM class II, right-of-way avoidance, off-highway vehicle limited, closed to mineral leasing, recommend for withdrawal from locatable mineral entry, closed to mineral material development, not available for livestock grazing.

• Lacks Creek, 2,140 acres, to protect old-growth reserves. VRM class III, right-of-way avoidance, off-highway vehicle closed, closed to mineral leasing, closed to mineral material development except for free use by other agencies, not available for livestock grazing, seasonal limitations on mountain biking would be considered as necessary to limit conflict and provide for public safety.

• Ma-le'l Dunes, 206 acres, to protect sensitive plant and wetland habitat and cultural resources. VRM class II, right-of-way exclusion outside of existing rights-of -way, off-highway vehicle closed, closed to mineral leasing, recommend for withdrawal from locatable mineral entry, closed to mineral material development, not available for livestock grazing, day use only, surface disturbing activities would only be allowed if they are consistent with relevance and importance values or in an existing right of way.

• Sacramento Island, 90 acres, to protect rare riparian habitat and fisheries. VRM class III, right-of-way avoidance, off-highway vehicle closed, closed to mineral leasing, closed to mineral material development, not available for livestock grazing, except for target grazing by goats for weed control on case-by-case basis, day use only, closed to campfires.

• Sacramento River Bend, 20,420 acres, to protect cultural resources and rare habitats (vernal pools and wetlands that support slender Orcutt grass [Orcuttia tenuis]). VRM class II, right-of-way exclusion outside of existing rights-of-way, off-highway vehicle limited, closed to mineral leasing, closed to mineral material development, day use only, not available for livestock grazing in riparian areas, limit special recreation permits and non-special recreation permits group uses to minimize resource impacts in spring and fall, limit target shooting to designated areas.

• Shasta and Klamath River Canyon, 1,210 acres, to protect rare and sensitive riparian and fisheries habitat values. VRM class III, right-of-way avoidance outside of existing rights-of-way, off-highway vehicle limited, not available for grazing, recommend for withdrawal from locatable mineral entry, closed to mineral leasing, and closed to mineral material development.

• Swasey Drive, 470 acres, to protect cultural resources. VRM class III, right-of-way avoidance, not available for livestock grazing, closed to mineral material development, closed to mineral leasing, existing trails would continue to be maintained within the ACEC.

• Grass Valley, 19,560 acres, to protect fragile highly erosive soils, reduce sediment delivery to the Trinity River, and maintain the important stronghold to climate change and ecosystem resiliency and diversity. Right-of-way avoidance, off-highway vehicle limited, VRM class III north of State Highway 299, VRM class II south of State Highway 299, closed to mineral leasing, recommend for withdrawal from mineral entry, closed to mineral material development, not available for livestock grazing, maintain existing roads to minimize erosion and sedimentation.

• Upper and Lower Clear Creek, 4,560 acres, to protect and improve anadromous salmonid habitat and the scenic values of the Clear Creek canyon. VRM class III, right-of-way avoidance, off-highway vehicle limited, closed to mineral leasing, recommend for withdrawal from locatable entry, closed to mineral material development, with the exception of free use by other agencies, not available for livestock grazing, limited to day use only, prioritize riparian restoration and nonnative and invasive species management, special recreation permits for commercial guided fishing would not be issued.

• Sheep Rock, 1,410 acres, to protect irreplaceable scenic, wildlife, historic, and cultural values. VRM class II, right-of-way exclusion, off-highway vehicle limited, closed to mineral leasing, closed to mineral material development, unavailable for domestic sheep grazing or trailing (only if the U.S. Fish and Wildlife Service proposes bighorn sheep reintroduction in this area).

• Black Mountain, 1,100 acres, to protect irreplaceable old-growth coniferous forest habitat, unique geologic features, cultural resources, and wildlife. Right-of-way exclusion, off-highway vehicle limited, VRM class III, closed to mineral leasing, closed to mineral material development.

• Upper Klamath Bench, 90 acres, to protect prehistoric and historic archaeological resources. Right-of-way exclusion, off-highway vehicle closed, VRM class III, closed to mineral leasing, recommend for withdrawal from locatable mineral entry, closed to mineral material development, not available for livestock grazing, cultural sites may be fenced, trespass livestock removed to protect the cultural setting.

• Upper Mattole, 460 acres, to protect rare and sensitive riparian and fisheries habitat values. Right-of-way avoidance, off-highway vehicle limited, VRM class III, closed to mineral leasing, closed to livestock grazing.

• Beegum Creek Gorge, 4,380 acres, to protect scenic fisheries, wildlife resources, ecological intactness, and rare and sensitive geological and lithological features that support rare and endemic serpentine plant species. Right-of-way exclusion, off-highway vehicle limited, VRM class II, closed to mineral leasing, not available for livestock grazing, recommend for withdrawal from locatable mineral entry, closed to mineral material development, bulldozer use prohibited unless approved by an authorized officer.

• North Fork Eel, 500 acres, to protect sensitive geological and lithological features, along with fisheries, and wildlife resources. Right-of-way avoidance, off-highway vehicle closed, VRM class II (in Wild and Scenic River corridor), VRM class III (remaining acres), closed to mineral leasing, closed to mineral material development, not available for livestock grazing.

• Willis Ridge, 3,180 acres, to protect old-growth reserves, along with fisheries and wildlife resources. VRM class III, right-of-way avoidance, off-highway vehicle limited, closed to mineral leasing, and closed to mineral material development.

• South Spit, 630 acres, to protect sensitive plant and wetland habitat and cultural resources. Right-of-way avoidance, off-highway vehicle limited, VRM class III, closed to mineral leasing, closed to mineral material development, day use only.

• Corning Vernal Pools, 170 acres, to protect critical habitat that supports threatened and endangered species. Right-of-way exclusion, off-highway vehicle closed, VRM class III, closed to mineral leasing, open to locatable mineral entry, closed to mineral material development, available to livestock grazing if compatible with vernal pool ecology and relevant and important values.

• North Table Mountain, 50 acres, to protect habitat that supports the rare Butte County Golden Clover (Trifolium jokerstii). Right-of-way exclusion, off-highway vehicle closed, VRM class III, closed to mineral leasing, recommend for withdrawal from locatable mineral entry, not available for livestock grazing, and closed to mineral material development.

More information on management of ACECs under the BLM's preferred alternative is available in Chapter 2, Table 2-2 and Chapter 3.4.1 of the Draft RMP/EIS.

The preferred alternative would not propose the following potential ACECs for designation: Swasey Drive Clear Creek Greenway and Eden Creek.

Schedule for the Decision-Making Process

The BLM will provide additional opportunities for public participation consistent with the NEPA and land use planning processes, including a 30-day public protest period and a 60-day governor's consistency review on the Proposed RMP. The Proposed RMP/Final EIS is anticipated to be available for public protest in the late spring of 2024 with an approved RMP and Record of Decision in late summer of 2024.

The BLM will hold at least one virtual and two in-person public meetings, in Redding and Arcata, California, on the Draft RMP/EIS during the 90-day public comment period. The specific date(s) and location(s) of these meetings will be announced at least 15 days in advance through local media, newspapers, and the BLM National NEPA Register project page (see ADDRESSES).

The BLM will continue to consult with Indian Tribal Nations on a government-to-government basis in accordance with Executive Order 13175, BLM MS 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2, 43 CFR 1610.7-2)

Karen E. Mouritsen,
State Director.

[FR Doc. 2023-21331 Filed 9-28-23; 8:45 am]

BILLING CODE 4331-15-P